FEDERAL RESERVE SYSTEM

Change in Bank Control Notices; Acquisitions of Shares of a Bank or Bank Holding Company

The notificants listed below have applied under the Change in Bank Control Act (“Act”) (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than June 6, 2019.

A. Federal Reserve Bank of Atlanta (Kathryn Haney, Assistant Vice President) 1000 Peachtree Street NE, Atlanta, Georgia 30309. Comments can also be sent electronically to Applications.Comments@atl.frb.org:

1. Bill Voss, Joshua Falciani, both of Decatur, Alabama, and Slap Happy Investments, LLC, Athens, Alabama; to retain voting shares of Merit Holdings LLC and thereby indirectly retain shares of Merit Bank, both of Huntsville, Alabama, and to join the Organizing Control Group, which controls Merit Holdings LLC.

B. Federal Reserve Bank of Kansas City (Dennis Denney, Assistant Vice President) 1 Memorial Drive, Kansas City, Missouri 64198-0001:

1. Thomas Creighton, Jr., Denver, Colorado, individually and as trustee of High Plains Banking Group, Inc. KSOP; to acquire voting shares of High Plains Banking Group, Inc., and thereby indirectly acquire shares of High Plains Bank, both of Flagler, Colorado. In addition, Heidi Priebe, Fort Collins, Colorado; Debra Dunbar, Gunnison, Colorado; Michael Patton, Scott City, Kansas; Frances Geutlich, Sammamish, Washington; Emma Creighton, Grace Creighton, Joseph Creighton, all of Longmont, Colorado; and William Newton, Snowmass, Colorado, to be approved as members of the Creighton Family Group, which controls High Plains Banking Group, Inc.

C. Federal Reserve Bank of San Francisco (Gerald C. Tsai, Director, Applications and Enforcement) 101 Market Street, San Francisco, California 94105-1579:

1. The BP & RP Trust; Deana Rae Gillespie, individually and as Successor Trustee of the BP & RP Trust, Muskego, Wisconsin; Ryan James Gillespie, Muskego, Wisconsin; Bruce R. Penoske and Raelynn Penoske, individually and as Trustees of the BP & RP Trust, both of Washington, Utah; Jared P. Goodale, Brentwood, California; and Myles Goodale, Boise, Idaho; to retain voting shares of Community Bancshares, Inc., and thereby indirectly retain voting shares of Community Bank, both of Joseph, Oregon.

Board of Governors of the Federal Reserve System, May 22, 2019.
Yao-Chin Chao,
Assistant Secretary of the Board.

[FR Doc. 2019-11113 Filed 5-28-19; 8:45 am]

BILLING CODE 6210-01-P